DEPARTMENT OF THE INTERIOR

Bureau of Reclamation

Milltown Hill Project, Douglas County, OR

AGENCY: Bureau of Reclamation, Interior.

ACTION: Notice of Intent to Prepare a Supplement to the Final Environmental Impact Statement.

SUMMARY: Pursuant to section 102(2)(C) of the National Environmental Policy Act (NEPA) of 1969, as amended, the Bureau of Reclamation (Reclamation) proposes to prepare a supplement to the Final Environmental Impact Statement (FEIS) for the Milltown Hill Project. Reclamation filed the FEIS for the project with the Environmental Protection Agency on August 14, 1992 and completed a Record of Decision (ROD) on November 7, 1992. The FEIS was prepared in conjunction with Douglas County's (County) application for a Small Reclamation Projects Act loan and grants to develop a dam and reservoir at the Milltown Hill site on Elk Creek above Drain, Oregon. The County's loan and grant application was subsequently approved but the project was never constructed. The County has recently indicated that it wishes to re-activate its Small Reclamation Projects Act loan and grant application. Reclamation believes that due to the time lapse since the FEIS was completed and the ROD was signed, it is appropriate to update the information in the 1992 EIS to determine if it still correctly describes the affected environment and environmental consequences of the project. The proposed action and the no action alternative will be evaluated in the supplement to the FEIS.

ADDRESSES: Bureau of Reclamation, Pacific Northwest Regional Office, 1150 N. Curtis Road, Suite 100, Boise, ID 83706-1234.

FOR FURTHER INFORMATION CONTACT: Anyone interested in more information concerning the EIS, or who has information that may be useful in identifying significant environmental issues, may contact Mr. Robert Hamilton at telephone 208-378-5087, or by e-mail at Milltownhill@pn.usbr.gov. TTY users may dial 711 to obtain a toll free TTY replay.

SUPPLEMENTARY INFORMATION: The project consists of a 186 foot high dam and 24,143 acre foot reservoir on Elk Creek, a tributary of the Umpqua River, which would provide regulated flows of water for irrigation of up to 4,661 acres of arable land, storage and distribution of water to the cities of Drain and Yoncalla, and the community of Rice Hill; allow municipal expansion and industrial diversification; provide a reliable source of water for rural domestic use; provide opportunities to improve fish and wildlife habitat; improve water quality; provide new water-related recreational facilities; and provide limited flood control in and near the city of Drain. A portion of the stored water would be released directly into Elk Creek to enhance water quality and anadromous fish habitat, and to meet the out of stream needs of municipal, industrial and agricultural users. The remainder of the stored water would be released into a pipeline distribution system which would improve municipal, industrial and irrigation water supplies to Scotts Valley and Yoncalla Valley, and provide an additional water supply for rural domestic use in these areas.

As indicated above, a FEIS and ROD for the project were completed in 1992. The County's loan application was subsequently approved by the Commissioner of Reclamation and the Secretary of the Interior on May 17, 1994, and May 18, 1994, respectively.

On September 9, 1996, the Umpqua River (UR) cutthroat trout was listed as endangered. On October 23, 1996, Reclamation and the County submitted a biological assessment (BA) to the National Marine Fisheries Service (NMFS) analyzing the effects of the proposed project on the listed and proposed species. On December 18, 1997, NMFS issued its biological opinion under section 7 of the ESA, stating that the proposed project is likely to jeopardize the continued existence of UR cutthroat trout and result in adverse modification of proposed critical habitat. A reasonable and prudent alternative was identified by NMFS to minimize the take of UR cutthroat trout.

Because of the listing of the UR cutthroat trout Reclamation determined that a supplement to the EIS was necessary. A Notice of Intent to prepare a supplement to the EIS was published in the Federal Register (62 FR 67890, December 30, 1997). A subsequent notice cancelled the Supplement (63 FR 52286, September 30, 1998) when the County suspended its plans to develop the project because, at that time, there was no process for obtaining a fish passage waiver from the State of Oregon.

Following a scientific review of the coastal cutthroat populations in California, Washington and Oregon, the U.S. Fish and Wildlife Service published a final rule in the Federal Register (65 FR 24420, April 26, 2000) delisting the UR cutthroat trout. The Umpqua River Ecologically Significant Unit (ESU) of the coastal cutthroat trout was removed from the List of Endangered and Threatened Wildlife because of a determination that the population, formerly identified as an ESU of the species, is part of a larger population segment that previously was determined to be neither endangered nor threatened as defined by the Endangered Species Act. Critical Habitat designations for this population were also removed.

A scoping letter to request assistance in identifying any new information or effects that should be considered in he supplemental EIS will be prepared early this summer and sent to a list of previously interested parties. Please contact Robert Hamilton at the address given in the ADDRESSES section of this notice, or via e-mail at Milltownhill@pn.usbr.gov if you wish to receive a copy of the scoping letter. No scoping meetings are planned at this time.

Reclamation welcomes written comments related to the environmental effects of the proposed project. Reclamation's practice is to make comments, including names and home addresses of respondents, available for public review. Individual respondents may request that we withhold their home address from public disclosure, which we will honor to the extent allowable by law. There may be other circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: July 14, 2006.
J. William McDonald,
Regional Director, Pacific Northwest Region.

[FR Doc. 06-6368 Filed 7-19-06; 8:45 am]

BILLING CODE 4310-MN-M